DEPARTMENT OF HOMELAND SECURITY

Coast Guard

33 CFR Part 117

[Docket No. USCG-2017-0213]

Drawbridge Operation Regulation; Hood Canal, Port Gamble, WA

AGENCY: Coast Guard, DHS.

ACTION: Notice of deviation from drawbridge regulation.

SUMMARY: The Coast Guard has issued a temporary deviation from the operating schedule that governs the Hood Canal Floating Drawbridge across Hood Canal (Admiralty Inlet), mile 5.0, near Port Gamble, WA. This deviation is necessary to accommodate replacement of the draw span operating equipment. The deviation allows the bridge to open the draw half-way, 300 feet; as opposed to a full opening, which is 600 feet. The deviation also requires the draw to open on signal if at least four hours notice is given.

DATES: This deviation is effective from 6 a.m. on May 1, 2017, to 7 p.m. on September 30, 2017.

ADDRESSES: The docket for this deviation, USCG-2017-0213 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: The Washington Department of Transportation (WSDOT) has requested a temporary deviation from the operating schedule of the Hood Canal Floating Drawbridge be allowed to only open half of the draw span to facilitate safe and uninterrupted draw span equipment replacement. The Hood Canal Floating Drawbridge crosses Hood Canal, mile 5.0, near Port Gamble, WA. The bridge has two fixed spans (east and west), and one draw span (center). The east span provides 50 feet of vertical clearance, the west span provides 35 feet of vertical clearance and the center span provides zero feet of vertical clearance in the closed-to-navigation position. The center span provides unlimited vertical clearance in the open-to-navigation position. Vertical clearances are referenced to mean high-water elevation. The deviation period allows the center span of the Hood Canal Floating Drawbridge across Hood Canal, mile 5.0, to only open half-way after contact the bridge operator has been at least four hours prior to signaling for an opening from 6 a.m. on May 1, 2017, until 7 p.m. on September 30, 2017.

During the time of the deviation, the drawbridge will not be able to operate according to the normal operating schedule. The normal operating schedule for the bridge is in accordance with 33 CFR 117.1045. The bridge shall operate in accordance to 33 CFR 117.1045 at all other times. Waterway usage on this part of Hood Canal includes commercial tugs and barges, U.S. Navy and U.S. Coast Guard vessels, and small pleasure craft. Coordination has been completed with known waterway users, and no objections to the deviation have been received.

Vessels able to pass through the east and west spans may do so at any time. The center span does not provide passage in the closed-to-navigation position. The bridge will be able to open half the center span for Navy and Coast Guard vessels during emergencies, when at least a one hour notice has been given by the Department of the Navy or U.S. Coast Guard. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: April 21, 2017.
Steven Fischer,
Chief, Bridge Program, Thirteenth Coast Guard District.

[FR Doc. 2017-08502 Filed 4-26-17; 8:45 am]

BILLING CODE 9110-04-P